DEPARTMENT OF HOUSING AND URBAN DEVELOPMENT

[Docket No. FR-4908-N-01]

Notice of Proposed Information Collection: American Healthy Homes Survey

AGENCY: Office of Healthy Homes and Lead Hazard Control, HUD.

ACTION: Notice.

SUMMARY: The proposed information collection requirement concerning an American Healthy Homes Survey in homes across the country will be submitted to the Office of Management and Budget (OMB) for review, as required by the Paperwork Reduction Act. The Department is soliciting public comments on the subject proposal.

DATES: Comments Due Date: March 22, 2004.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: John H. Miller, (202) 755-1758 ext. 106 (this is not a toll-free number), or John_H._Miller@HUD.gov, for copies of the proposed information collection instruments and other available documents electronically or on paper.

SUPPLEMENTARY INFORMATION: The Department is submitting the proposed information collection to OMB for review, as required by the Paperwork Reduction Act of 1995, (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: American Healthy Homes Survey.

OMB Control Number: To be assigned.

Need for the Information and Proposed Use: Lead is a highly toxic heavy metal that adversely affects virtually every organ system in the body. Young children are particularly susceptible to its effects. Lead poisoning remains one of the top childhood environmental health problems today. The most current national survey (1998-2000), conducted by the Centers for Disease Control and Prevention, shows that about 434,000 young children are lead poisoned. The most common source of lead exposure for children today is lead paint in older housing and the contaminated dust and soil it generates. The National Survey of Lead and Allergens in Housing, conducted by HUD and the National Institute of Environmental Health Sciences (NIEHS) in 1998-2000, estimated that 24 million homes had lead-based paint hazards at that time. New information is needed to identify the extent of progress toward achieving the goal of the President's Task Force on Environmental Health Risks and Safety Risks to Children of eliminating lead paint hazards in housing where children under six live.

Asthma is a chronic respiratory disease characterized by episodes of airway inflammation and narrowing. It is generally accepted that asthma results from the interaction between genetic susceptibility and environmental exposures. Exposure to indoor allergy-producing substances (allergens) is believed to play an important role in the development and exacerbation of asthma. The HUD-NIEHS survey, above, found that most U.S. homes had, near the end of the last decade, detectable levels of dust mite allergen associated with allergic sensitization and asthma. New information is needed to characterize changes in the residential prevalence of allergens since the survey.

Similarly, such airborne chemicals as carbon monoxide, airborne particulate matter, and such chemicals on surfaces as arsenic and pesticides, and such unintentional injury factors as conditions associated with falls, fires and poisons, are known to have adverse health or safety effects, but national residential prevalence estimates are unavailable, limiting the ability of HUD and other agencies to develop data-driven control strategies.

This information will be used in revising policy and guidance to target the housing with the greatest needs for lead hazard evaluation and control.

Results from this survey will provide current information needed for regulatory and policy decisions and enables an assessment of progress in making the U.S. housing stock safe.

Agency Form Number: None.

Members of Affected Public: Homeowners and rental housing tenants.

Total Burden Estimate (First Year):

Number of task | Frequency of respondents | Hours per responses | Burden response
Respondents | 2000 | 1 | 3.5
Total Estimated Burden Hours |  |  | 7000

Status of the Proposed Information Collection: New request.

Dated: January 9, 2004.
David E. Jacobs,
Director, Office of Healthy Homes and Lead Hazard Control.

[FR Doc. 04-1099 Filed 1-16-04; 8:45 am]

BILLING CODE 4210-70-M